DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting for April 11-13, 2005, at the Department of Veterans Affairs Central Office, 810 Vermont Avenue, NW., Washington, DC 20420. The meeting will be held each day in Conference Center C-7, from 9 a.m. to 4:30 p.m. The meeting is open to the public.

The purpose of the Committee is to advise the Secretary of Veterans Affairs on the administration of benefits under Title 38, United States Code, for veterans who are former prisoners of war, and to make recommendations on the needs of such veterans for compensation, health care, and rehabilitation.

The agenda for April 11 will begin with an introduction of Committee members, remarks from dignitaries, a review of Committee reports, an update of activities since the last meeting, and a period for FPOW veterans and/or the public to address the Committee. The Committee will also discuss future plans for the VA FPOW Learning Seminars, and conclude with a report on the progress of Special FPOW Care and Benefits Teams. The agenda on April 12 will include a review of VA's Compensation and Pension Service activities, including new outreach initiatives to FPOWs, initiatives to contact FPOW pensioners, and a special reporet on outreach to FPOWs about the new presumptive medical conditions of heart diseases and the residuals of stroke. The Committee will then receive a report from VA's FPOW Medical Presumptions Workgroup. The Committee will also hear a presentation from the Robert E. Mitchell Center for Prisoner of War Studies. The day will conclude with new business and general discussion. On April 13, the Committee's Medical and Administrative work groups will meet to discuss their activities and report back to the Committee. Additionally, the Committee will review and analyze the comments discussed throughout the meeting for the purpose of compiling a report to be sent to the Secretary.

Members of the public may direct questions or submit written statements for review by the Committee in advance of the meeting to Ms. Renée L. Szybala, Director, Compensation and Pension Service (21), Department of Veterans Affairs, 810 Vermont Avenue, NW., Washington, DC 20420. Submitted materials must be received by April 1, 2005.

Dated: March 3, 2005.
By Direction of the Secretary.
E. Philip Riggin,
Committee Management Officer.

[FR Doc. 05-4896 Filed 3-11-05; 8:45 am]

BILLING CODE 8320-01-M